DEPARTMENT OF THE INTERIOR

Bureau of Land Management

[LLAZ910000.L13400000.DT0000.LXSS058A0000]

Notice of Availability of the Final Environmental Impact Statement for the Restoration Design Energy Project and Proposed Resource Management Plan Amendments, AZ

AGENCY: Bureau of Land Management, Interior.

ACTION: Notice of availability.

SUMMARY: In compliance with the National Environmental Policy Act of 1969, as amended (NEPA), the Council on Environmental Quality and the Department of the Interior (DOI) regulations implementing NEPA, and the Federal Land Policy and Management Act of 1976, as amended (FLPMA), the Bureau of Land Management (BLM) Arizona State Office has prepared Proposed Resource Management Plan (RMP) Amendments and a Final Environmental Impact Statement (EIS) for the Restoration Design Energy Project (RDEP) and by this notice is announcing its availability.

DATES: The BLM planning regulations state that any person who meets the conditions as described in the regulations may protest the BLM's Proposed RMP Amendments/Final EIS. A person who meets the conditions and wishes to file a protest must file the protest within 30 days of the date that the Environmental Protection Agency publishes its Notice of Availability (NOA) in the Federal Register.

ADDRESSES: Copies of the RDEP Proposed RMP Amendments/Final EIS have been sent to affected Federal, State, and local government agencies; tribes; and other stakeholders. Copies of the Proposed RMP Amendments/Final EIS are available for public inspection at the BLM Arizona State Office, One North Central Avenue, Suite 800, Phoenix, AZ 85004. The Proposed RMP Amendments/Final EIS can also be downloaded from the project's Web site at http://www.blm.gov/az/st/en/prog/energy/arra_solar.htm. All protests must be in writing and mailed to one of the following addresses:

Regular Mail: BLM Director (WO210), Attention: Brenda Williams, P.O. Box 71383, Washington, DC 20024-1383

Overnight Mail: BLM Director (WO210), Attention: Brenda Williams, 20 M Street SE., Room 2134 LM, Washington, DC 20003

Publication of the Proposed RMP Amendments/Final EIS NOA does not trigger a formal public comment period. The BLM, however, may choose to review any comments submitted following the publication of the Proposed RMP Amendments/Final EIS NOA and use the comments to inform the records of decision (RODs). Individuals should note that the BLM will consider such comments only to the extent practicable and will not respond to comments individually. Comments may be submitted by the following methods:

Email: az_arra_rdep@blm.gov,

Fax: Attn: Lane Cowger, 602-417-9452;

Mail or other delivery service: BLM Arizona State Office, Attention: Restoration Design Energy Project, One North Central Avenue, Suite 800, Phoenix, AZ 85004-4427.

FOR FURTHER INFORMATION CONTACT: Kathy Pedrick, BLM Project Manager; telephone: 602-417-9235; mail: One North Central Avenue, Suite 800, Phoenix, AZ 85004-4427; or email: az_arra_rdep@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The RDEP supports the Secretary of the Interior's goals to build America's new energy future and to protect and restore treasured landscapes. The purpose of the RDEP is to conduct statewide planning that fosters environmentally responsible production of renewable energy and allows the permitting of future renewable energy development projects to proceed in a more efficient and standardized manner. The RDEP would amend BLM land use plans to identify lands across Arizona that are most suitable for renewable energy development, including solar and wind energy technologies, and to establish a baseline set of environmental protection measures for such projects. The BLM is proposing to identify Renewable Energy Development Areas (REDAs), which are BLM-administered lands that are suitable for the development of solar and wind energy facilities. It is also proposing to establish one new Solar Energy Zone (SEZ) with a priority for utility-scale (greater than 20 megawatts) solar energy development. This new proposed SEZ is in addition to two existing SEZs identified in the October 12, 2012, ROD for the Solar Energy Programmatic Final EIS.

The proposed REDAs and proposed new SEZ for Arizona include disturbed sites and lands with low resource sensitivity and few environmental conflicts. Additionally, the BLM proposes to establish unified management actions, design features, and best management practices applicable to renewable energy development on BLM-administered lands in Arizona.

The REDAs would identify where renewable energy development is likely to be compatible with resource objectives and would be suitable for the development of utility- or distributed-scale solar and wind energy facilities. The SEZ would be prioritized for utility-scale solar energy development.

The Final EIS evaluates six action alternatives and the No Action Alternative. Alternative 1 identifies approximately 298,400 acres of potential REDAs on BLM-administered land that are disturbed sites or lands with low resource sensitivity. Alternative 1 seeks to provide maximum flexibility for locating small- to large-scale projects without consideration of other physical constraints, such as distance to transmission or load. Alternative 2 seeks to reduce environmental impacts by only including the potential REDAs identified in Alternative 1 that are within 5 miles of designated utility corridors and existing or approved transmission lines. Under Alternative 2, approximately 213,500 acres of BLM-administered lands would be identified as REDAs. Alternative 3 seeks to reduce disturbance and environmental impacts by identifying approximately 106,800 acres of potential REDAs that are near the point of demand, such as cities, towns, or industrial centers. Alternative 4 seeks to address potential water issues by instituting specific design features for 298,400 acres of potential REDAs to avoid impacts on sensitive watersheds, groundwater supply, and water quality. Alternative 5 focuses on opportunities to facilitate renewable energy development through land tenure adjustments by identifying about 25,500 acres of potential REDAs on BLM-administered lands identified as suitable for disposal through prior planning processes. Alternative 6 was developed through a collaborative process among the BLM, cooperating agencies, tribes, collaborating partners, stakeholders, and the public. Alternative 6 identifies about 222,800 acres of potential REDAs within 5 miles of designated utility corridors and existing transmission lines or near a point of demand, includes design features to protect water resources, and provides for land tenure adjustment of lands previously identified for disposal.

The BLM is also proposing to identify the Agua Caliente SEZ to facilitate the development of utility-scale solar energy projects. The proposed SEZ was developed based on a screening process that included the following criteria: Available large contiguous parcels of BLM land (greater than 2,500 acres); proximity to transmission; limited known environmental or cultural constraints; proximity to roads and infrastructure; and proximity to existing solar energy developments. Based on input from cooperating agencies, tribes, and the public, the Final EIS analyzes four footprints for the proposed Agua Caliente SEZ: 2,550 acres, 2,760 acres, 6,770 acres, and 20,600 acres. The agency's preferred alternative is Alternative 6, with 222,800 acres of REDA and a 2,550-acre SEZ.

The BLM proposes to amend the following BLM RMPs: Bradshaw-Harquahala RMP (2010); Arizona Strip Field Office RMP (2008); Kingman Resource Area RMP (1995); Lake Havasu Field Office RMP (2007); Lower Sonoran RMP (2012); Phoenix RMP (1988); Safford District RMP (1991); and Yuma Field Office RMP (2010). Additionally, the BLM would amend the Yuma Field Office RMP through a separate ROD to identify the Agua Caliente SEZ, identify SEZ-specific design features, change the Visual Resource Management (VRM) class from VRM Class III to VRM Class IV for lands within the 2,550-acre proposed SEZ, and remove the Special Recreation Management Area designation and Wildlife Habitat Management Area allocations from within the SEZ.

This EIS provides the necessary analysis to support the amendment of land use plans. This EIS will not eliminate the need for site-specific environmental review for future renewable energy development proposals. The BLM will make decisions on a case-by-case basis whether to authorize specific renewable energy development projects. Applications for proposed solar and wind energy development projects are processed as right-of-way (ROW) authorizations under Title V of FLPMA and 43 CFR part 2800. The processing of solar and wind energy development ROW applications must comply with the BLM's planning, environmental, and ROW regulatory requirements. When the BLM considers an application, the BLM decision-maker must determine if the proposal would conform to the applicable land use plan (43 CFR, 1610.5-3, 516 DM 11.5) and what level or type of environmental documentation is required. Analysis of proposed solar and wind energy development projects must comply with NEPA and Council on Environmental Quality and DOI NEPA regulations (40 CFR parts 1500-1508; 43 CFR part 46). The public would have opportunities to participate and comment during the NEPA process. The BLM would retain the discretion to deny solar and wind energy ROW applications based on site-specific issues and concerns, even in an area identified as a REDA, a SEZ, or otherwise available for application in the existing land use plan. The BLM would still consider renewable energy development proposals outside of a REDA or SEZ on a case-by-case basis using applicable state and national policy direction and guidance from existing land use plan decisions.

The Final EIS analyzes impacts of the alternatives on land use authorizations; military airspace; air quality; minerals/geology and soils; farm lands (prime or unique); water quality and quantity; floodplains, wetlands, and riparian zones; vegetation (including invasive, nonnative species); wildlife; migratory birds; BLM-designated sensitive animal and plant species; cultural resources; Native American religious concerns; paleontological resources; visual resources; livestock grazing; recreation; special designations (including areas of critical environmental concern and wilderness); lands with wilderness characteristics; national scenic and historic trails; noise; public health and safety and fire management; hazardous or solid waste; social and economic values; and environmental justice.

Throughout development of the RDEP, the BLM has engaged 10 cooperating agencies, State and local governments, tribes, the Arizona Resource Advisory Council, and other stakeholders in order to obtain input on defining the REDAs and general information on the desired renewable energy footprint in Arizona.

On February 17, 2012, the BLM published a Draft EIS for the Restoration Design Energy Project and Draft RMP Amendments (77 FR 9694). Public comments were accepted through May 16, 2012. More than 3,300 comments were received. The public, as well as some cooperating agencies, offered suggestions on how the BLM could improve the proposed footprint of the Agua Caliente SEZ, refine the screening process for the REDAs, and conduct additional analysis on the conditions of the disturbed sites. All comments were considered and incorporated as appropriate into the Proposed RMP Amendments and Final EIS. Public comments resulted in the addition of a new Agua Caliente SEZ footprint and refined boundaries for proposed REDAs.

Instructions for filing a protest with the Director of the BLM regarding the Final EIS may be found in the “Dear Reader” letter of the Final EIS for the Restoration Design Energy Project and at 43 CFR 1610.5-2. Email and faxed protests will not be accepted as valid protests unless the protesting party also provides the original letter by either regular or overnight mail postmarked by the close of the protest period. Under these conditions, the BLM will consider the email or faxed protest as an advance copy, and the protest will receive full consideration. If you wish to provide the BLM with such advance notification, please direct faxed protests to the attention of the BLM protest coordinator at 202-245-0028 and emails to bhudgens@blm.gov.

All protests, including the follow-up letter to emails or faxes, must be in writing and mailed to the appropriate address, as set forth in the ADDRESSES section above.

Before including your address, phone number, email address, or other personal identifying information in your comment, you should be aware that your entire comment, including your personal identifying information, may be made publicly available at any time. While you can ask us in your comment to withhold your personal identifying information from public review, we cannot guarantee that we will be able to do so.

Authority: 40 CFR 1503.1, 1506.6, 1506.10, and 43 CFR 1610.2.

Deborah Stevens,
Acting State Director.

[FR Doc. 2012-26350 Filed 10-25-12; 8:45 am]

BILLING CODE 4310-32-P